DEPARTMENT OF COMMERCE

National Oceanic and Atmospheric Administration

50 CFR Part 300

[Docket No. 180209155-8589-02]

RIN 0648-XG458

International Fisheries; Western and Central Pacific Fisheries for Highly Migratory Species; Closure of Purse Seine Fishery on the High Seas in 2018

AGENCY: National Marine Fisheries Service (NMFS), National Oceanic and Atmospheric Administration (NOAA), Commerce.

ACTION: Temporary rule; fishery closure.

SUMMARY: NMFS announces that the U.S. purse seine fishery on the high seas in the area of application of the Convention on the Conservation and Management of Highly Migratory Fish Stocks in the Western and Central Pacific Ocean (Convention) between the latitudes of 20° N and 20° S will close as a result of reaching the 2018 limit on purse seine fishing effort in that area. This action is necessary for the United States to implement provisions of a conservation and management measure adopted by the Commission for the Conservation and Management of Highly Migratory Fish Stocks in the Western and Central Pacific Ocean (WCPFC or Commission) and to satisfy the obligations of the United States under the Convention, to which it is a Contracting Party.

DATES: Effective 00:00 on September 18, 2018 coordinated universal time (UTC), until 24:00 on December 31, 2018 UTC.

FOR FURTHER INFORMATION CONTACT: Rini Ghosh, NMFS Pacific Islands Regional Office, 808-725-5033.

SUPPLEMENTARY INFORMATION: U.S. purse seine fishing in the area of application of the Convention, or Convention Area, is managed, in part, under the Western and Central Pacific Fisheries Convention Implementation Act (16 U.S.C. 6901 et seq.). Regulations implementing the Act are at 50 CFR part 300, subpart O. On behalf of the Secretary of Commerce, NMFS promulgates regulations under the Act as may be necessary to carry out the obligations of the United States under the Convention, including implementation of the decisions of the Commission.

Pursuant to WCPFC Conservation and Management Measure 2017-01, NMFS issued regulations that established a limit of 1,370 fishing days that may be used by U.S. purse seine fishing vessels on the high seas between the latitudes of 20° N and 20° S in the Convention Area in calendar year 2018 (see final rule at 83 FR 33851, published July 18, 2018, codified at 50 CFR 300.223). A fishing day means any day in which a fishing vessel of the United States equipped with purse seine gear searches for fish, deploys a fish aggregating device (FAD), services a FAD, or sets a purse seine, with the exception of setting a purse seine solely for the purpose of testing or cleaning the gear and resulting in no catch (see definition at 50 CFR 300.211).

Based on data submitted in logbooks and other available information, NMFS expects that the 2018 limit of 1,370 fishing days will be reached, and in accordance with the procedures established at 50 CFR 300.223(a), announces that the purse seine fishery on the high seas between the latitudes of 20° N and 20° S in the Convention Area will be closed starting at 00:00 on September 18, 2018 UTC, and will remain closed until 24:00 on December 31, 2018 UTC. Accordingly, it shall be prohibited for any fishing vessel of the United States equipped with purse seine gear to be used for fishing on the high seas between the latitudes of 20° N and 20° S in the Convention Area from 00:00 on September 18, 2018 UTC until 24:00 December 31, 2018 UTC, except that such vessels will not be prohibited from bunkering in that area during that period (50 CFR 300.223(a)). Fishing means using any vessel, vehicle, aircraft or hovercraft for any of the following activities, or attempting to do so: (1) Searching for, catching, taking, or harvesting fish; (2) engaging in any other activity which can reasonably be expected to result in the locating, catching, taking, or harvesting of fish for any purpose; (3) placing, searching for, or recovering fish aggregating devices or associated electronic equipment such as radio beacons; (4) engaging in any operations at sea directly in support of, or in preparation for, any of the activities previously described in elements (1) through (3) of this definition, including, but not limited to, bunkering; or (5) engaging in transshipment at sea, either unloading or loading fish (see definition at 50 CFR 300.211). As noted above, bunkering will not be prohibited in the closure area during the closure period. This rule does not prohibit lawful fishing with purse seine gear within the U.S. Exclusive Economic Zone within the Convention Area.

Classification

There is good cause under 5 U.S.C. 553(b)(B) to waive prior notice and opportunity for public comment on this action. Compliance with the notice and comment requirement would be impracticable and contrary to the public interest, since NMFS would be unable to ensure that the 2018 limit on purse seine fishing effort on the high seas between the latitudes of 20° N and 20° S in the Convention Area is not exceeded. This action is based on the best available information on U.S. purse seine fishing effort in the limit area. The action is necessary for the United States to comply with its obligations under the Convention and is important for the conservation and management of bigeye tuna, yellowfin tuna, and skipjack tuna in the western and central Pacific Ocean. For the same reasons, there is good cause under 5 U.S.C. 553(d)(3) to establish an effective date less than 30 days after the date of publication of this notice.

This action is required by 50 CFR 300.223(a) and is exempt from review under Executive Order 12866.

Authority: 16 U.S.C. 6901 et seq.

Dated: September 6, 2018.
Margo Schulze-Haugen,
Acting Director, Office of Sustainable Fisheries, National Marine Fisheries Service.

[FR Doc. 2018-19710 Filed 9-10-18; 8:45 am]

BILLING CODE 3510-22-P